DEPARTMENT OF TRANSPORTATION

Federal Aviation Administration

14 CFR Part 39

[Docket No. FAA-2008-0675; Directorate Identifier 2007-NM-192-AD; Amendment 39-15682; AD 2008-20-03]

RIN 2120-AA64

Airworthiness Directives; Fokker Model F.28 Mark 0070 and Mark 0100 Airplanes

AGENCY: Federal Aviation Administration (FAA), Department of Transportation (DOT).

ACTION: Final rule.

SUMMARY: The FAA is superseding an existing airworthiness directive (AD), which applies to certain Fokker Model F.28 Mark 0070 and 0100 airplanes. That AD currently requires a one-time inspection of the main landing gear (MLG) main fitting for cracks, and repair if necessary. The existing AD also currently requires installing a placard and revising the airplane flight manual to include procedures to prohibit the application of brakes during backward movement of the airplane. This new AD requires repetitive eddy current inspections of the MLG main fitting and rework before further flight as applicable. This AD results from reports that a final solution eliminating the cause of the crack initiation mechanism is not yet available and that repetitive inspections are necessary. We are issuing this AD to detect and correct cracks in the MLG main fitting, which could result in reduced structural integrity of the MLG main fitting.

DATES: This AD becomes effective November 3, 2008.

The Director of the Federal Register approved the incorporation by reference of a certain publication listed in the AD as of November 3, 2008.

On April 26, 2006 (71 FR 14363, March 22, 2006), the Director of the Federal Register approved the incorporation by reference of Messier-Dowty Service Bulletin F100-32-106, including Appendices A through C and excluding Appendix D, dated February 18, 2005.

ADDRESSES: For service information identified in this AD, contact Fokker Services B.V., Technical Services Dept., P.O. Box 231, 2150 AE Nieuw-Vennep, the Netherlands.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

The FAA issued a notice of proposed rulemaking (NPRM) to amend 14 CFR part 39 to include an AD that supersedes AD 2006-06-07, amendment 39-14516 (71 FR 14363, March 22, 2006). The existing AD applies to certain Fokker Model F.28 Mark 0070 and 0100 airplanes. That NPRM was published in the Federal Register on July 2, 2008 (73 FR 37903). That NPRM proposed to continue to require a one-time inspection of the main landing gear (MLG) main fitting for cracks, and repair if necessary. That NPRM also proposed to continue to require installing a placard and revising the airplane flight manual (AFM) to include procedures to prohibit the application of brakes during backward movement of the airplane. That NPRM also proposed to require repetitive eddy current inspections of the MLG main fitting and rework before further flight as applicable.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Inspection (required by AD 2006-06-07) | 2 | $80 | None | $160 | 11 | $1,760
AFM Revision and Placard Installation (required by AD 2006-06-07) | 1 | 80 | None | 80 | 11 | 880
Inspection (new required action) | 6 | 80 | $540 ($270 per fitting) | 1,020 | 12 | 12,240

Authority for This Rulemaking

Title 49 of the United States Code specifies the FAA's authority to issue rules on aviation safety. Subtitle I, Section 106 describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14516 (71 FR 14363, March 22, 2006) and by adding the following new airworthiness directive (AD):

2008-20-03 Fokker Services B.V.: Amendment 39-15682. Docket No. FAA-2008-0675; Directorate Identifier 2007-NM-192-AD.

Effective Date

(a) This AD becomes effective November 3, 2008.

Affected ADs

(b) This AD supersedes AD 2006-06-07.

Applicability

(c) This AD applies to Fokker Model F.28 Mark 0070 and Mark 0100 airplanes, certificated in any category, equipped with Messier-Dowty main landing gears (MLGs).

Unsafe Condition

(d) This AD results from reports that a final solution eliminating the cause of the crack initiation mechanism is not yet available and that repetitive inspections are necessary. We are issuing this AD to detect and correct cracks in the MLG main fitting, which could result in reduced structural integrity of the MLG main fitting.

Compliance

(e) You are responsible for having the actions required by this AD performed within the compliance times specified, unless the actions have already been done.

Restatement of Requirements of AD 2006-06-07

Airplane Flight Manual (AFM) Revision and Placard Installation

(f) Within 14 days after April 26, 2006 (the effective date of AD 2006-06-07), amend the Limitations section of the Fokker F.28 AFM to prohibit application of brakes during backward movement of the airplane. This may be done by inserting a copy of this AD in the AFM.

Note 1: When a statement to prohibit application of brakes during backward movement of the airplane has been included in the general revisions of the AFM, the general revisions may be inserted into the AFM, and the copy of this AD may be removed from the AFM.

(g) Within 14 days after April 26, 2006, affix a placard on the pedestal, next to the parking brake handle, having the following wording: “APPLICATION OF BRAKES DURING BACKWARD MOVEMENT IS PROHIBITED.”

Inspection and Corrective Action

(h) At the applicable time specified in paragraph (h)(1) or (h)(2) of this AD: Do an eddy current inspection of the MLG main fittings and repair before further flight as applicable, in accordance with the Accomplishment Instructions of Messier-Dowty Service Bulletin F100-32-106, including Appendices A through C and excluding Appendix D, dated February 18, 2005, except as provided by paragraphs (i) and (j) of this AD.

(1) For airplanes on which an inspection has not been done in accordance with Messier-Dowty Service Bulletin F100-32-104, Revision 2, dated October 30, 2003: Within 3 months after April 26, 2006.

(2) For airplanes on which an inspection has been done in accordance with Messier-Dowty Service Bulletin F100-32-104, Revision 2, dated October 30, 2003: Within 2,000 flight cycles since the last inspection done in accordance with the service bulletin or within 3 months after April 26, 2006, whichever occurs later.

Exceptions to the Service Bulletin

(i) Where Messier-Dowty Service Bulletin F100-32-106, including Appendices A through C and excluding Appendix D, dated February 18, 2005, specifies contacting the manufacturer for repair: Before further flight, repair using a method approved by either the Manager, International Branch, ANM-116, Transport Airplane Directorate, FAA; or the Civil Aviation Authority—The Netherlands (CAA-NL) (or its delegated agent).

(j) Although Messier-Dowty Service Bulletin F100-32-106, including Appendices A through C and excluding Appendix D, dated February 18, 2005, specifies to submit certain information to the manufacturer, this AD does not include that requirement.

Parts Installation

(k) As of April 26, 2006, and until the effective date of this AD, no person may install, on any airplane, a Messier-Dowty MLG, unless it has been inspected/repaired according to paragraph (h) of this AD.

New Requirements of This AD

Inspection and Repair

(l) At the applicable times specified in paragraphs (l)(1), (l)(2), and (l)(3) of this AD: Do an eddy current inspection of the MLG main fitting for cracks, and rework the MLG main fitting if applicable, in accordance with the Accomplishment Instructions of Messier-Dowty Service Bulletin F100-32-111, including Appendices A through C and excluding Appendix D, dated December 20, 2005; except as provided by paragraph (m) of this AD. The rework must be done before further flight.

(1) For all MLG main fittings, except those units identified in paragraph (l)(2) of this AD: Inspect within the next 2,000 flight cycles since the last inspection required by paragraph (h) of this AD, or within 4 months after the effective date of this AD, whichever occurs later.

(2) For new MLG main fittings and MLG main fittings on which both bores have been repaired (reworked) in accordance with paragraph (h) of this AD: Inspect within 4,000 flight cycles since new (installation) or repaired (rework) in accordance with paragraph (h) of this AD, as applicable.

(3) For all MLGs: Repeat the eddy current inspection thereafter at intervals not to exceed 2,000 flight cycles.

Exception to Service Bulletin F100-32-111

(m) Although Messier-Dowty Service Bulletin F100-32-111, including Appendices A through C and excluding Appendix D, dated December 20, 2005, specifies to submit certain information to the manufacturer, this AD does not include that requirement.

Parts Installation

(n) As of the effective date of this AD, no person may install, on any airplane, a Messier-Dowty MLG, unless it has been inspected and reworked in accordance with paragraph (l) of this AD.

Alternative Methods of Compliance (AMOCs)

(o) The Manager, International Branch, ANM-116, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

Related Information

(p) Dutch airworthiness directive NL-2006-003, dated February 7, 2006, also addresses the subject of this AD.

Material Incorporated by Reference

(q) You must use Messier-Dowty Service Bulletin F100-32-106, including Appendices A through C and excluding Appendix D, dated February 18, 2005; and Messier-Dowty Service Bulletin F100-32-111, including Appendices A through C and excluding Appendix D, dated December 20, 2005; as applicable; to perform the actions that are required by this AD, unless the AD specifies otherwise.

(1) The Director of the Federal Register approved the incorporation by reference of Messier-Dowty Service Bulletin F100-32-111, including Appendices A through C and excluding Appendix D, dated December 20, 2005, in accordance with 5 U.S.C. 552(a) and 1 CFR part 51.

(2) On April 26, 2006 (71 FR 14363, March 22, 2006), the Director of the Federal Register approved the incorporation by reference of Messier-Dowty Service Bulletin F100-32-106, including Appendices A through C and excluding Appendix D, dated February 18, 2005.

(3) Contact Fokker Services B.V., Technical Services Dept., P.O. Box 231, 2150 AE Nieuw-Vennep, the Netherlands, for a copy of this service information.

(4) You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on September 11, 2008.
Michael Kaszycki,
Acting Manager, Transport Airplane Directorate, Aircraft Certification Service.

[FR Doc. E8-22210 Filed 9-26-08; 8:45 am]

BILLING CODE 4910-13-P